GENERAL SERVICES ADMINISTRATION

48 CFR Parts 523 and 552

[GSAR Case 2022-G517; Docket No. GSA-GSAR-2022-0014; Sequence No. 1]

RIN 3090-AK60

General Services Administration Acquisition Regulation (GSAR); Single-Use Plastics and Packaging

AGENCY: Office of Acquisition Policy, General Services Administration (GSA).

ACTION: Advance notice of proposed rulemaking.

SUMMARY: The General Services Administration (GSA) is publishing this advance notice of proposed rulemaking (ANPR) to seek public feedback pertaining to the use of plastic consumed in both packaging and shipping, as well as other single-use plastics for which the agency contracts. The issues raised in the comments submitted in response to this ANPR will inform future rulemaking to establish requirements and reporting mechanisms for reducing unnecessary single-use plastic, to include plastic packaging and shipping materials.

DATES: Interested parties should submit written comments at the address shown below on or before September 6, 2022 to be considered in the formulation of a proposed rule.

ADDRESSES: Submit comments in response to GSAR Case 2022-G517 to the Federal eRulemaking portal at https://www.regulations.gov by searching for “GSAR Case 2022-G517”. Select the link “Comment Now” that corresponds with GSAR Case 2022-G517. Follow the instructions provided at the “Comment Now” screen. Please include your name, company name (if any), and “GSAR Case 2022-G517” on your attached document. If your comment cannot be submitted using https://www.regulations.gov, call or email the points of contact in the FOR FURTHER INFORMATION CONTACT section of this document for alternate instructions.

Instructions: Please submit comments only and cite GSAR Case 2022-G517 in all correspondence related to this case. Comments received generally will be posted without change to https://www.regulations.gov, including any personal and/or business confidential information provided. To confirm receipt of your comment(s), please check https://www.regulations.gov approximately two to three days after submission to verify posting.

FOR FURTHER INFORMATION CONTACT: Ms. Adina Torberntsson, Procurement Analyst, at 303-236-2677 or gsarpolicy@gsa.gov, for clarification of content. For information pertaining to status or publication schedules, contact the Regulatory Secretariat Division at 202-501-4755 or GSARegSec@gsa.gov. Please cite GSAR Case 2022-G517 in your email subject line.

SUPPLEMENTARY INFORMATION:

I. Background

This ANPR concerns reducing single-use plastics, to include those used in packaging and shipping required for the delivery of products under General Services Administration (GSA) contracts as well as items included on the contracts. For this ANPR, plastic materials that are used and then immediately disposed of once the item is delivered are considered single-use plastics.

Executive Order 14008 states “it is the policy of my Administration to lead the Nation's effort to combat the climate crisis by example-specifically, by aligning the management of Federal procurement and real property, public lands and waters, and financial programs to support robust climate action.” As America's Buyer, GSA is interested in its potential to play a supporting role including by reducing single use plastics. GSA has taken some initial internal policy steps towards a leadership role in using the Federal Government's buying power towards this goal. The GSA Acquisition Manual (GSAM) was amended in October 2021 through Change 138 ¹ to require consideration to reduce content waste as part of requirements planning for GSA acquisitions. One of the contents highlighted in this GSAM amendment is packaging.

¹ https://acquisition-staging.gsa.gov/sites/default/files/archives/loose_leaf/GSAM_Latest_Change_Order_1382021528_0.pdf.

Since the last sustainability GSAM change, E.O. 14057 Catalyzing Clean Energy Industries and Jobs Through Federal Sustainability ² was issued. Section 207 of the E.O. instructs each agency to reduce waste to include supporting a recycled content market and circular economy approaches.

² E.O. 14057 of December 8, 2021, 86 FR 70935.

GSA will consider comments received in response to this ANPR in future rulemaking to amend the GSAR through a proposed rule, and to revise other GSA policies, procedures, and guidance that further support GSAM Change 138 and address E.O. 14057 regarding single-use plastics.

II. Discussion and Analysis

A. Evaluating the Need for Regulatory Change

GSA is a leader in acquisition and provides supplies and services across the Federal government through the agency's acquisition vehicles to include the Federal Supply Schedule program. Also known as the Government's landlord, GSA has the ability to make a difference by addressing single-use plastics in our construction, concession, and facility maintenance contracts as well.

GSA continues to provide the best customer service experience by providing access to thousands of products and services. Our agency also looks for the most advantageous solutions, remaining ahead of problems before they culminate, and making the best decisions on behalf of the American taxpayer. To do this, GSA has adopted internal policy changes to address sustainability in our acquisitions. With single-use plastics being a significant contributor to the global plastic pollution concern, it is a logical step for the agency to examine this.

B. The Petition for Rulemaking

The Center for Biological Diversity, along with 180 signatories, submitted a petition to GSA on February 3, 2022, requesting that the agency address single-use plastics through rulemaking. This ANPR, among other things, seeks to better understand the implications of any such rulemaking.

III. Request for Public Feedback

GSA invites comment on the issues discussed in this ANPR to help inform future rulemaking on how to best reduce single-use plastics from packaging, while limiting burden and liability on our industry and logistics partners. Specifically, GSA seeks responses to the questions listed below. Please explain the reasoning behind your responses in detail. Also, provide any data, studies, or other evidence that supports your response. You do not have to answer all the questions in your response.

To help GSA review comments efficiently, identify the question to which you are responding by its associated number and letter (e.g., “III. a”) or whether you are commenting on a topic not listed below.

1. What is your role in your product's supply chain?

Are you a manufacturer, distributor, reseller, or other (comments are encouraged from any impacted parties including local municipalities and economically and/or disadvantaged communities)?

2. Does your company have control over the methodology in which your product is packaged for shipment?

3. What are the differences between a paper based, aluminum based, or compostable packaging and a single-use plastic based packaging?

a. What are the performance differences?

b. What are the cost differences?

4. Does your company have experience using environmentally preferable packaging?

a. If an environmentally preferable option was utilized, what benefits did your company experience from such a change?

b. What is the relationship between your packaging and your product branding?

c. Will packaging be considered as part of your company's climate financial disclosure, if applicable?

5. What is the best way for GSA to aid its contractors in moving to environmentally preferable packing and packaging? How quickly should it move?

6. Are there any market, regulatory, statutory or cost barriers to selecting environmentally preferable packaging such as paper based or biodegradable packaging?

If yes, please specify what the barrier is and what is creating the barrier (i.e., the product's casing or the shipment packaging).

7. What should be considered when developing a timeline to implement regulatory changes in reducing single use plastic as either the primary product, or as the packaging material?

8. Which, if any, single use plastic items GSA should choose not to contract for through its federal supply schedules? Are there exceptions GSA should make to ensure no harm to customer agency missions?

9. How could compliance with reduced or eliminated plastic content be verified?

a. How can GSA and industry take advantage of innovative technologies or business practices to improve accuracy of verification while minimizing the administrative burden on companies?

b. Are there private sector standards, ecolabels, and/or certifications your company is using to meet environmentally preferred packaging goals?

IV. Request for Economic Data and Consumer Research

Aside from the feedback questions listed above, GSA also seeks to better understand the economic impact regarding single-use plastic products, and single-use plastics in packaging and shipping, and what industry changes are feasible. GSA seeks economic data and consumer research to help increase its understanding of the market. In your response please consider the intent and details of the questions below. You do not have to answer all the questions in your response.

To help GSA review comments efficiently, identify the question to which you are responding by its associated number and letter (e.g., “IV.1”) or whether you are commenting on a topic not listed below.

1. What will the estimated cost be to change, reduce, or eliminate single-use plastic from your product lines?

2. What will the estimated costs be to change, reduce, or eliminate single-use plastic packaging?

3. Will a change from single-use plastic packaging result in a reduced cost in freight?

4. What reporting or monitoring standards, if any, exist to track the use of more environmentally preferable packaging material?

5. What is the liability risk of any of the purchased goods being damaged if packaging is reduced or changed?

6. What other identifiable risks are posed to industry, the government, and overall economy if packaging is reduced or changed?

Jeffrey A. Koses,
Senior Procurement Executive, Office of Acquisition Policy, Office of Governmentwide Policy, General Services Administration.

[FR Doc. 2022-14403 Filed 7-6-22; 8:45 am]

BILLING CODE 6820-61-P